DEPARTMENT OF COMMERCE

International Trade Administration

[C-570-043]

Stainless Steel Sheet and Strip From the People's Republic of China: Postponement of Preliminary Determination in the Countervailing Duty Investigation

AGENCY: Enforcement and Compliance, International Trade Administration, Department of Commerce.

DATES: Effective April 21, 2016.

FOR FURTHER INFORMATION CONTACT: Emily Halle at (202) 482-0176, AD/CVD Operations Office VII, Enforcement and Compliance, U.S. Department of Commerce, 14th Street and Constitution Avenue NW., Washington, DC 20230.

SUPPLEMENTARY INFORMATION:

Background

On March 3, 2016, the Department of Commerce (the Department) initiated a countervailing duty (CVD) investigation of imports of stainless steel sheet and strip (stainless steel) from the People's Republic of China (PRC).¹ The notice of initiation stated that, in accordance with section 703(b)(1) of the Tariff Act of 1930, as amended (the Act), and 19 CFR 351.205(b)(1), we would issue our preliminary determination no later than 65 days after the date of initiation, unless postponed. Currently, the preliminary determination in this investigation is due no later than May 9, 2016.

¹ See Stainless Steel Sheet and Strip From the People's Republic of China: Initiation of Countervailing Duty Investigation, 81 FR 13322 (March 14, 2016).

Postponement of Preliminary Determinations

Section 703(b)(1) of the Tariff Act of 1930, as amended (Act), requires the Department to issue the preliminary determination in a CVD investigation within 65 days after the date on which the Department initiated the investigation. However, section 703(c)(1) of the Act permits the Department to postpone making the preliminary determination until no later than 130 days after the date on which it initiated the investigation if, among other reasons, the petitioner makes a timely request for a postponement, or the Department concludes that the parties concerned are cooperating and determines that the investigation is extraordinarily complicated. On April 13, 2016, AK Steel Corporation, Allegheny Ludlum, LLC d/b/a ATI Flat Rolled Products, North American Stainless, and Outokumpu Stainless USA, LLC (collectively, Petitioners) made a timely request to postpone the preliminary CVD determination.² Therefore, pursuant to the discretion afforded the Department under 703(c)(1)(A) of the Act and because the Department does not find any compelling reason to deny the request, we are fully extending the due date until 130 days after the Department's initiation for the preliminary determination, to July 11, 2016. Pursuant to section 705(a)(1) of the Act and 19 CFR 351.210(b)(1), the deadline for the final determination will continue to be 75 days after the date of the preliminary determination. This notice is issued and published pursuant to section 703(c)(2) of the Act and 19 CFR 351.205(f)(1).

² See Letter from Petitioners, “Countervailing Duty Investigation of Stainless Steel Sheet and Strip from the People's Republic of China Request for Extension of the Determination,” April 13, 2016.

Dated: April 14, 2016.
Paul Piquado,
Assistant Secretary for Enforcement and Compliance.

[FR Doc. 2016-09279 Filed 4-20-16; 8:45 am]

BILLING CODE 3510-DS-P